DEPARTMENT OF LABOR

Occupational Safety and Health Administration

[Docket No. ICR-1218-0227(2002)]

Trucks Used Underground To Transport Explosives; Extension of the Office of Management and Budget's (OMB) Approval of Information-Collection (Paperwork) Requirements

AGENCY: Occupational Safety and Health Administration (OSHA), Labor.

ACTION: Request for comment.

SUMMARY: OSHA solicits public comment concerning its request to extend OMB approval of the information-collection requirements specified in paragraph (e) of the Underground Transportation of Explosives in Construction Standard (29 CFR 1926.903); this paragraph requires employers to inspect the trucks electrical system used to transport the explosives underground.

DATES: Submit written comments on or before August 19, 2002.

ADDRESSES: Submit written comments to the Docket Office, Docket No. ICR-1218-0227(2002), OSHA, U.S. Department of Labor, Room N-2625, 200 Constitution Avenue, NW, Washington, DC 20210; telephone: (202) 693-2350. Commenters may transmit written comments of 10 pages or less by facsimile to: (202) 693-1648.

FOR FURTHER INFORMATION CONTACT: Kathleen M. Martinez, Directorate of Policy, Office of Regulatory Analysis, OSHA, U.S. Department of Labor, Room N-3641, 200 Constitution Avenue, NW, Washington, DC 20210; telephone: (202) 693-1953. A copy of the Agency's Information-Collection Request (ICR) supporting the need for the information collections specified by the Underground Transportation of Explosive Standard is a available for inspection and copying in the Docket Office, or by requesting a copy from Todd Owen at (202) 693-2444. For electronic copies of the ICR contact OSHA on the Internet at http://www.osha.gov/comp-links.html and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and cost) is minimal, collection instruments are clearly understood, and OSHA's estimate of the information-collection burden is correct.

The Underground Transportation of Explosives Standard (i.e., “the Standard”) specifies the following paperwork requirement, as well as the rationale for the requirement.

• Trucks used Underground to Transport Explosives (paragraph (e)). Paragraph (e) requires the employer to inspect weekly the truck's electrical system used to transport explosives underground. The weekly inspection is to detect any failure in the system which would constitute an electrical hazard. In addition the employer must certify and maintain these records to show the compliance officer upon inspection.

II. Special Issues for Comment

OSHA has a particular interest in comments on the following issues:

• Whether the proposed information-collection requirements are necessary for the proper performance of the Agency's functions, including whether the information is useful;

• The accuracy of OSHA's estimate of the burden (time and cost) of the information-collection requirements, including the validity of the methodology and assumptions used;

• The quality, utility, and clarity of the information collected; and

• Ways to minimize the burden on employers who must comply; for example, by using automated or other technological information-collection and -transmission techniques.

III. Proposed Actions

OSHA proposes to extend OMB's previous approval of the recordkeeping (paperwork) requirement specified in paragraph (e) of the Underground Transportation of Explosives Standard (29 CFR 1926.903). The Agency will summarize the comments submitted in response to this notice, and will include this summary in its request to OMB to extend the approval of this information-collection requirement.

Type of Review: Extension of currently approved information-collection requirements.

Title: Trucks used Underground to Transport Explosives.

OMB Number: 1218-0227.

Affected Public: Business or other for-profit; not-for-profit institutions; Federal government; State, local or tribal governments.

Number of Respondents: 1.

Frequency of Response: Weekly.

Total Responses: 52.

Average Time per Response: 10 minutes.

Estimated Total Burden Hours: 9.

Estimated Cost (Operation and Maintenance): 0.

IV. Authority and Signature

John L. Henshaw, Assistant Secretary of Labor for Occupational Safety and Health, directed the preparation of this notice. The authority for this notice is the Paperwork Reduction Act of 1995 (44 U.S.C. 3506) and Secretary of Labor's Order No. 3-2000 (65 FR 50017).

Signed at Washington, DC, on June 11, 2002.
John L. Henshaw,
Assistant Secretary of Labor.

[FR Doc. 02-15305 Filed 6-17-02; 8:45 am]

BILLING CODE 4510-26-M